DEPARTMENT OF TRANSPORTATION

Federal Aviation Administration

14 CFR Part 39

[Docket No. FAA-2005-20733; Directorate Identifier 2005-NM-004-AD]

RIN 2120-AA64

Airworthiness Directives; Empresa Brasileira de Aeronautica S.A. (EMBRAER) Model EMB-135 and -145 Series Airplanes

AGENCY: Federal Aviation Administration (FAA), Department of Transportation (DOT).

ACTION: Notice of proposed rulemaking (NPRM).

SUMMARY: The FAA proposes to adopt a new airworthiness directive (AD) for all Empresa Brasileira de Aeronautica S.A. (EMBRAER) Model EMB-135 and -145 series airplanes. This proposed AD would require inspecting to determine the part number of the left and right engine fire handles; and replacing the engine fire handles with engine fire handles having different part numbers if necessary. This proposed AD is prompted by cases of the internal circuit of the engine fire handle failing. We are proposing this AD to prevent failure of the internal circuit of the engine fire handle that could disable the fuel shut-off valves and the discharge of the fire extinguishing agent, which, in the event of a fire, could result in the inability to extinguish a fire.

DATES: We must receive comments on this proposed AD by May 2, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Empresa Brasileira de Aeronautica S.A. (EMBRAER), P.O. Box 343—CEP 12.225, Sao Jose dos Campos—SP, Brazil.

You can examine the contents of this AD docket on the Internet at http://dms.dot.gov, or in person at the Docket Management Facility, U.S. Department of Transportation, 400 Seventh Street SW., room PL-401, on the plaza level of the Nassif Building, Washington, DC. This docket number is FAA-2005-20733; the directorate identifier for this docket is 2005-NM-004-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-20733; Directorate Identifier 2005-NM-004-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Departmento de Aviacao Civil (DAC), which is the airworthiness authority for Brazil, notified us that an unsafe condition may exist on all Empresa Brasileira de Aeronautica S.A. (EMBRAER) Model EMB-135 and -145 series airplanes. The DAC advises that cases of the internal circuit of the engine fire handle failing have been found. Failure of the internal circuit of the engine fire handle could disable the fuel shut-off valves and the discharge of the fire extinguishing agent. In the event of a fire, this condition, if not corrected, could result in the inability to extinguish a fire.

Relevant Service Information

EMBRAER has issued Service Bulletin 145-26-0012 (for Model EMB-135 and EMB-145 series airplanes, except for EMB-135BJ series airplanes) and Service Bulletin 145LEG-26-0003 (for Model EMB-135BJ series airplanes), both Revision 01, both dated January 6, 2005. The service bulletins describe procedures for inspecting to determine the part number of the left and right engine fire handles; and replacing the engine fire handles with engine fire handles having different part numbers if necessary. Accomplishing the actions specified in the service information is intended to adequately address the unsafe condition. The DAC mandated the service information and issued Brazilian airworthiness directive 2004-10-01, dated October 30, 2004, to ensure the continued airworthiness of these airplanes in Brazil.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that we need to issue an AD for products of this type design that are certificated for operation in the United States.

Therefore, we are proposing this AD, which would require accomplishing the actions specified in the service information described previously, except as discussed under “Difference Between the Proposed AD and Brazilian Airworthiness Directive.”

Difference Between Proposed Rule and Brazilian Airworthiness Directive

Brazilian airworthiness directive 2004-10-01, dated October 30, 2004, is applicable to “all EMB-145 and EMB-135 aircraft models in operation.” However, this does not agree with EMBRAER Service Bulletin 145-26-0012 and Service Bulletin 145LEG-29-0003, both Revision 01, both dated January 6, 2004, which state that only certain EMB-145 and EMB-135 airplanes are affected and identify them by serial number. This proposed AD would be applicable only to the airplanes listed in the service bulletins. This difference has been coordinated with the DAC.

Costs of Compliance

This proposed AD would affect about 616 airplanes of U.S. registry. The proposed actions would take about 2 work hours per airplane, at an average labor rate of $65 per work hour. Based on these figures, the estimated cost of the proposed AD for U.S. operators is $80,080, or $130 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Empresa Brasileira de Aeronautica S.A. (EMBRAER): Docket No. FAA-2005-20733; Directorate Identifier 2005-NM-004-AD.

Comments Due Date

(a) The Federal Aviation Administration must receive comments on this AD action by May 2, 2005.

Affected ADs

(b) None.

Applicability

(c) This AD applies to EMBRAER Model EMB-135 and -145 series airplanes, certificated in any category; as identified in EMBRAER Service Bulletin 145-26-0012, Revision 01, dated January 6, 2005; and EMBRAER Service Bulletin 145LEG-26-0003, Revision 01, dated January 6, 2005.

Unsafe Condition

(d) This AD was prompted by cases of the internal circuit of the engine fire handle failing. We are issuing this AD to prevent failure of the internal circuit of the engine fire handle that could disable the fuel shut-off valves and the discharge of the fire extinguishing agent, which, in the event of a fire, could result in the inability to extinguish a fire.

Compliance

(e) You are responsible for having the actions required by this AD performed within the compliance times specified, unless the actions have already been done.

Inspection

(f) Within 1,000 flight hours or 180 days after the effective date of this AD, whichever is first: Inspect to determine the part number (P/N) of the left and right engine fire handles, in accordance with the Accomplishment Instructions of EMBRAER Service Bulletin 145-26-0012 (for Model EMB-135 and EMB-145 series airplanes, except for EMB-135BJ series airplanes), Revision 01, dated January 6, 2005; or EMBRAER Service Bulletin 145LEG-26-0003 (for Model EMB-135BJ series airplanes), Revision 01, dated January 6, 2005; as applicable. Instead of inspecting the left and right engine fire handles, a review of airplane maintenance records is acceptable if the P/Ns of the left and right engine fire handles can be determined conclusively from that review. If left and right engine fire handles, P/Ns 1-7054-1 and 2-7054-1, respectively, are found installed on the airplane, then no further action is required by this paragraph. If any engine fire handle having P/N 1-7054-2 or 2-7054-2 is found installed on the airplane, before further flight, replace the engine fire handle with an engine fire handle having P/N 1-7054-1 or 2-7054-1, as applicable, in accordance with the service bulletin.

Parts Installation

(g) As of the effective date of this AD, no person may install left or right engine fire handles, P/Ns 1-7054-2 and 2-7054-2, on any airplane.

Credit for Previous Service Bulletin

(h) Actions done before the effective date of this AD in accordance with EMBRAER Service Bulletin 145-26-0012, dated October 6, 2004; or EMBRAER Service Bulletin 145LEG-26-0003, dated October 6, 2004; as applicable; are acceptable for compliance with the requirements of paragraph (f) of this AD.

Alternative Methods of Compliance (AMOCs)

(i) The Manager, International Branch, ANM-116, Transport Airplane Directorate, FAA, has the authority to approve AMOCs for this AD, if requested in accordance with the procedures found in 14 CFR 39.19.

Related Information

(j) Brazilian airworthiness directive 2004-10-01, dated October 30, 2004, also addresses the subject of this AD.

Issued in Renton, Washington, on March 21, 2005.
Ali Bahrami,
Manager, Transport Airplane Directorate, Aircraft Certification Service.

[FR Doc. 05-6348 Filed 3-30-05; 8:45 am]

BILLING CODE 4910-13-P